DEPARTMENT OF ENERGY

Federal Energy Regulatory Commission

[Docket No. CP01-92-000]

East Tennessee Natural Gas Company; Notice of Application

March 1, 2001.

Take notice that on February 23, 2001, East Tennessee Natural Gas Company (East Tennessee), Post Office Box 1642, Houston, Texas, 77251-1642, filed in Docket No. CP01-92-000 an application pursuant to Section 7(c) of the Natural Gas Act for authorization to install, construct, own and operate approximately 2.23 miles of 12-inch pipeline loop and appurtenant facilities in Washington County, Virginia; Loudon County, Tennessee; and Putnam County, Tennessee. In addition, East Tennessee proposes to perform seven pipeline road crossing replacements and hydrostatic testing in order to increase the maximum allowable operation pressure (MAOP) of approximately 17.5 miles of existing 22-inch pipe on its Line 3107, all as more fully set forth in the application on file with the Commission and open to public inspection. The project is collectively referred to as the “Gateway Project”. This filing may be viewed on the web at http://www.ferc.fed.us/online/htm (call 202-208-2222 for assistance).

The proposed pipeline loop facilities will include approximately 2.23 miles of new 12-inch pipeline extending from main line valve (MLV) 3310-02, at milepost (MP) zero on East Tennessee's 8-inch line 3300 to MP 2.23 at the Saltville Storage facility interconnect. East Tennessee proposes to install a regulator on the Loudon-Lenoir City lateral at MLV 3218D-102. This regulator is required to allow gas deliveries into the Loudon meter station 75-9039, from the north, Line 3100 and the South Line 3200, operating at independent and possibly differential pressures. The Loudon regulator will be located within the existing rights-of-way.

East Tennessee also proposes to increase the MAOP on a portion of Line 3107. This increased MAOP is necessary to provide Etowah and Loudon firm transportation from the Ridgetop interconnect with Tennessee Gas Pipe Line Company to the respective Etowah and Loudon meter stations. To accomplish this, East Tennessee proposes to perform six road crossing replacements and hydrostatic test on approximately 12.85 miles of 22-inch pipe on Line 3107 from MLV 3107-1A to MLV 3108-1 and also to replace one road crossing and thereby uprate approximately 4.56 miles of 22-inch pipe on Line 3107 from the discharge of station 3107 to 3107-A. The hydrostatic testing and pipeline replacement will allow East Tennessee to increase the MAOP on these segments from 722 to 766 pounds per square inch gauge (psig), respectively to 773 psig.

The Gateway Project will allow East Tennessee to provide firm transportation service for Etowah Utility Department (Etowah), Loudon Utilities Gas Department (Loudon), and Stone Mountain Energy, LC (Stone Mountain), collectively referred to as the Gateway Customers. The proposed Gateway Project will provide 1,000 dekatherms (Dth/d) of capacity to Etowah, 3,000 Dth/d to Loudon, and 4,000 Dth/d to Stone Mountain, for a total of 8,000 Dth/d of FT-A transportation service resulting from the proposed Gateway Project facilities. East Tennessee held an open season from June 1, 2000, until June 15, 2000 for a potential expansion of its system. As a result of its open season, East Tennessee has provided precedent agreements and gas transportation agreements with each customer, for 100 percent of the proposed transportation service. In addition East Tennessee has provided other data indicating a growing market for natural gas in East Tennessee's market area citing projections from NERC's Electricity Supply and Demand 2000 database, among other things.

East Tennessee proposes to provide service to the Gateway Customers pursuant to its existing open access Rate Schedule FT-A. However, East Tennessee further seeks authorization to establish an initial Section 7(c) rate for the service proposed. East Tennessee states that all construction costs associated with the proposed facilities will be paid for through the incremental rates to be charged the Gateway Customers.

East Tennessee states that the Gateway Projects will be constructed on East Tennessee's existing pipeline right of way and thus will not result in a significant adverse effect on the environment.

The Gateway Customers have requested that East Tennessee provide the proposed transportation service during the 2001/2002 winter heating season. East Tennessee requests a certificate on or before August 1, 2001 in order for it to meet its November 1, 2001 in-service date requested by the Gateway Customers.

Any questions regarding the application should be directed to Steven E. Tillman, Director, Regulatory Affairs, East Tennessee Natural Gas Company, P.O. Box 1642, Houston, Texas, 77251, (713) 627-5113.

Any person desiring to be heard or to make any protest with reference to said application should on or before March 22, 2001, file with the Federal Energy Regulatory Commission, Washington, DC 20426, a motion to intervene or a protest in accordance with the requirements of the Commission's Rules of Practice and Procedure (18 CFR 385.214 or 385.211) and the Regulations under the Natural Gas Act (18 CFR 157.10). All protests filed with the Commission will be considered by it in determining the appropriate action to be taken but will not serve to make the protestants parties to the proceeding. Any person wishing to become a party to a proceeding or to participate as a party in any hearing therein must file a motion to intervene in accordance with the Commission's Rules. Comments and protests may be filed electronically in lieu of paper. See 18 CFR 385.2001(a)(1)(iii) and the instructions on the Commission's website at http://ferc.fed.us/efl/doorbell.htm.

A person obtaining intervener status will be placed on the service list maintained by the Secretary of the Commission and will receive copies of all documents filed by the applicant and by every one of the interveners. An intervener can file for rehearing of any Commission order and can petition for court review of any such order. However, an intervener must submit copies of comments or any other filing it makes with the Commission to every other intervener in the proceeding, as well as 14 copies with the Commission.

A person does not have to intervene, however, in order to have comments considered. A person, instead, may submit two copies of comments to the Secretary of the Commission. Commentors will be placed on the Commission's environmental mailing list, will receive copies of environmental documents and will be able to participate in meetings associated with the Commission's environmental review process. Commentors will not be required to serve copies of filed documents on all other parties. However, commentors will not receive copies of all documents filed by other parties or issued by the Commission and will not have the right to seek rehearing or appeal the Commission's final order to a federal court.

The Commission will consider all comments and concerns equally, whether filed by commentors or those requesting intervener status.

Take further notice that pursuant to the authority contained in and subject to the jurisdiction conferred upon the Federal Energy Regulatory Commission by Sections 7 and 15 of the Natural Gas Act and the Commission's Rules of Practice and Procedure, a hearing will be held without further notice before the Commission or its designee on this application if no motion to intervene is filed within the time required herein, if the Commission on its own review of the matter finds that a grant of the certificate is required by the public convenience and necessity. If a motion for leave to intervene is timely filed, or if the Commission on its own motion believes that a formal hearing is required, further notice of such hearing will be duly given.

Under the procedure herein provided for, unless otherwise advised, it will be necessary for East Tennessee to appear or to be represented at the hearing.

David P. Boergers,
Secretary.

[FR Doc. 01-5524 Filed 3-6-01; 8:45 am]

BILLING CODE 6717-01-M